ENVIRONMENTAL PROTECTION AGENCY

40 CFR Part 80

[AMS-FRL-7404-5]

Clean Diesel Fuel Implementation Workshop

AGENCY: Environmental Protection Agency (EPA).

ACTION: Notice of meeting.

SUMMARY: The Environmental Protection Agency will be holding a Clean Diesel Fuel Implementation Workshop November 20 and 21 in Houston, Texas. The clean diesel fuel program (66 FR 5002, January 18, 2001) establishes a maximum sulfur content of 15 ppm for highway diesel fuel beginning in June 2006 to enable the advanced emission control devices that will be used on 2007 and later model year heavy-duty diesel vehicles. The purpose of this workshop is to assist regulated entities, including refiners, fuel distributors, and fuel marketers, with program implementation and compliance. The workshop is being sponsored by the National Petrochemical and Refiners Association (NPRA) in conjunction with the Society of Independent Gasoline Marketers of America (SIGMA), the Association of Oil Pipelines (AOPL), the National Association of Convenience Stores (NACS), the Independent Fuel Terminal Operators Association (IFTOA), and the Petroleum Marketers Association of America (PMAA). EPA will present a summary of the clean diesel program, including recordkeeping and reporting requirements, and enforcement provisions. The workshop will also include a series of industry panel sessions on developing solutions to program implementation challenges. An agenda for the workshop will be available in early November on the clean diesel Web Page: http://www.epa.gov/otaq/diesel.htm. If you plan to attend the workshop, please register at https://www.b-there.com/breg/diw02/index.cfm?x=1.

DATES: Wednesday, November 20, 2002, from 10 a.m. to 6 p.m., Thursday, November 21, 2002, from 8 a.m. to 12:30 p.m.

ADDRESSES: The Westin Galleria Hotel, 5060 W. Alabama Street, Houston, Texas 77056, (713) 960-8100, (713) 960-6553 (fax), http://www.starwood.com/westin/index.html.

FOR FURTHER INFORMATION CONTACT: Ms. Mary Manners, Chemical Engineer, U.S. EPA, National Vehicle and Fuels Emission Laboratory, Assessment and Standards Division, 2000 Traverwood, Ann Arbor, MI 48105; telephone: (734) 214-4873, fax: (734) 214-4051, e-mail: manners.mary@epa.gov.

Dated: October 30, 2002.
Donald E. Zinger,
Acting Director, Office of Transportation and Air Quality.

[FR Doc. 02-28083 Filed 11-4-02; 8:45 am]

BILLING CODE 6561-7-M